ENVIRONMENTAL PROTECTION AGENCY

40 CFR Part 52

[EPA-R03-OAR-2016-0335; FRL-9954-29-Region 3]

Approval and Promulgation of Air Quality Implementation Plans; Virginia; Adoption of Control Techniques Guidelines for Control of Volatile Organic Compound Emissions

AGENCY: Environmental Protection Agency (EPA).

ACTION: Final rule.

SUMMARY: The Environmental Protection Agency (EPA) is approving three state implementation plan (SIP) revisions submitted by the Commonwealth of Virginia (Virginia). These revisions include amendments to the Virginia Department of Environmental Quality's (VADEQ) regulations and address the requirement to adopt reasonably available control technology (RACT) for sources covered by EPA's Control Techniques Guidelines (CTG) standards for the following categories: Offset lithographic printing and letterpress printing, industrial solvent cleaning operations, miscellaneous industrial adhesives, and miscellaneous metal and plastic parts coatings. EPA is approving these revisions to the Virginia SIP in accordance with the requirements of the Clean Air Act (CAA).

DATES: This final rule is effective on November 21, 2016.

ADDRESSES: EPA has established a docket for this action under Docket ID Number EPA-R03-OAR-2016-0335. All documents in the docket are listed on the http://www.regulations.gov Web site. Although listed in the index, some information is not publicly available, e.g., confidential business information (CBI) or other information whose disclosure is restricted by statute. Certain other material, such as copyrighted material, is not placed on the Internet and will be publicly available only in hard copy form. Publicly available docket materials are available through http://www.regulations.gov, or please contact the person identified in the “For Further Information Contact” section for additional availability information.

FOR FURTHER INFORMATION CONTACT: Leslie Jones Doherty, (215) 814-3409, or by email at jones.leslie@epa.gov.

SUPPLEMENTARY INFORMATION:

I. Background

On August 23, 2016 (87 FR 57531), EPA published a notice of proposed rulemaking (NPR) for the Commonwealth of Virginia. In the NPR, EPA proposed approval of three revisions to the Virginia SIP concerning the adoption of EPA CTGs for offset lithographic printing and letterpress printing, industrial solvent cleaning operations, miscellaneous industrial adhesives, and miscellaneous metal and plastic parts coatings sources in the specific portion of Virginia known as the Northern Virginia Volatile Organic Compound Emissions Control Area.¹ The formal SIP revision was submitted by Virginia, through VADEQ, on February 1, 2016.

¹ The northern portion of Virginia is defined as the Northern Virginia Volatile Organic Compound Emissions Control Area in 9VAC5-20-206 (General Provisions).

The ozone transport region (OTR) was established under section 184(a) of the CAA to address interstate transport of ozone and includes the northern portion of Virginia that is part of the Metropolitan Statistical Area of the District Columbia, which Virginia refers to as the “Northern Virginia Volatile Organic Compound Emissions Control Area.” Pursuant to section 184(b)(1)(B) of the CAA, all areas in the OTR must implement RACT with respect to sources of volatile organic compounds (VOCs) in the state covered by CTGs. Thus, Virginia must implement RACT with respect to sources of VOCs covered by CTGs in the Northern Virginia Volatile Organic Compound Emissions Control Area. CAA section 184(b)(1)(B) and (2). States can follow the CTGs and adopt state regulations to implement the recommendations contained therein, or they can adopt alternative approaches. In either case, states must submit their RACT rules to EPA for review and approval as part of the SIP process.

In 2006 and 2008, EPA published new CTGs entitled Control Techniques Guidelines for Offset Lithographic and Letterpress Printing (Publication No. EPA 453/R-06-002; September 2006); Control Techniques Guidelines for Industrial Cleaning Solvents (Publication No. EPA 453/R-06-001; September 2006); Control Techniques Guidelines for Miscellaneous Industrial Adhesives (Publication No. EPA 453/R-08-005; September 2008); and Control Techniques Guidelines for Miscellaneous Metal and Plastic Parts Coatings (Publication No. EPA 453/R-08-003; September 2008). EPA developed new CTGs for these industries after reviewing existing state and local VOC emission reduction approaches, new source performance standards (NSPS), previously issued CTGs, and national emission standards for hazardous air pollutants (NESHAP) for these source categories.

II. Summary of SIP Revision

On February 1, 2016, Virginia, through VADEQ, submitted amended and new regulations for inclusion in the Virginia SIP concerning the adoption of the EPA CTGs for offset lithographic printing and letterpress printing, industrial solvent cleaning operations, miscellaneous industrial adhesives, and miscellaneous metal and plastic parts coatings in the Northern Virginia Volatile Organic Compound Emissions Control Area. Virginia has adopted EPA's CTG standards for these industries by amending regulation 9VAC5, chapter 40, Existing Stationary Sources, articles 34 and 53 and adding articles 56, 56.1, 57, 58, and 59 to 9VAC5, chapter 40. Additionally, Virginia has amended supporting definitions in 9VAC5, chapter 20, General Provisions, which relate to the new CTG standards. The Virginia regulations adopt the equivalent of the specific EPA CTG recommendations and address CAA requirements for RACT (for sources covered by CTGs) in sections 172 and 182 as referenced by section 184. Other specific requirements and the rationale for EPA's proposed action are explained in the NPR and technical support document (TSD) and will not be restated here. No public comments were received on the NPR.

III. Final Action

EPA is approving VADEQ's February 1, 2016 SIP submittal as a revision to the Virginia SIP. The SIP submittal being approved consists of amendments to regulation 9VAC5 chapter 40, Existing Stationary Sources, and 9VAC5 chapter 20, General Provisions, and addresses the requirement to adopt RACT for sources located in the Northern Virginia VOC Emissions Control Area covered by EPA's CTG standards in accordance with CAA requirements in sections 172, 182 and 184 for the following categories: Offset lithographic printing and letterpress printing, industrial cleaning solvent operations, miscellaneous industrial adhesives, and miscellaneous metal and plastic parts coatings.

IV. General Information Pertaining to SIP Submittals From the Commonwealth of Virginia

In 1995, Virginia adopted legislation that provides, subject to certain conditions, for an environmental assessment (audit) “privilege” for voluntary compliance evaluations performed by a regulated entity. The legislation further addresses the relative burden of proof for parties either asserting the privilege or seeking disclosure of documents for which the privilege is claimed. Virginia's legislation also provides, subject to certain conditions, for a penalty waiver for violations of environmental laws when a regulated entity discovers such violations pursuant to a voluntary compliance evaluation and voluntarily discloses such violations to the Commonwealth and takes prompt and appropriate measures to remedy the violations. Virginia's Voluntary Environmental Assessment Privilege Law, Va. Code Sec. 10.1-1198, provides a privilege that protects from disclosure documents and information about the content of those documents that are the product of a voluntary environmental assessment. The Privilege Law does not extend to documents or information that: (1) Are generated or developed before the commencement of a voluntary environmental assessment; (2) are prepared independently of the assessment process; (3) demonstrate a clear, imminent and substantial danger to the public health or environment; or (4) are required by law.

On January 12, 1998, the Commonwealth of Virginia Office of the Attorney General provided a legal opinion that states that the Privilege law, Va. Code Sec. 10.1-1198, precludes granting a privilege to documents and information “required by law,” including documents and information “required by federal law to maintain program delegation, authorization or approval,” since Virginia must “enforce federally authorized environmental programs in a manner that is no less stringent than their federal counterparts. . . .” The opinion concludes that “[r]egarding § 10.1-1198, therefore, documents or other information needed for civil or criminal enforcement under one of these programs could not be privileged because such documents and information are essential to pursuing enforcement in a manner required by federal law to maintain program delegation, authorization or approval.”

Virginia's Immunity law, Va. Code Sec. 10.1-1199, provides that “[t]o the extent consistent with requirements imposed by federal law,” any person making a voluntary disclosure of information to a state agency regarding a violation of an environmental statute, regulation, permit, or administrative order is granted immunity from administrative or civil penalty. The Attorney General's January 12, 1998 opinion states that the quoted language renders this statute inapplicable to enforcement of any federally authorized programs, since “no immunity could be afforded from administrative, civil, or criminal penalties because granting such immunity would not be consistent with federal law, which is one of the criteria for immunity.”

Therefore, EPA has determined that Virginia's Privilege and Immunity statutes will not preclude the Commonwealth from enforcing its program consistent with the federal requirements. In any event, because EPA has also determined that a state audit privilege and immunity law can affect only state enforcement and cannot have any impact on federal enforcement authorities, EPA may at any time invoke its authority under the CAA, including, for example, sections 113, 167, 205, 211 or 213, to enforce the requirements or prohibitions of the state plan, independently of any state enforcement effort. In addition, citizen enforcement under section 304 of the CAA is likewise unaffected by this, or any, state audit privilege or immunity law.

V. Incorporation by Reference

In this rule, EPA is finalizing regulatory text that includes incorporation by reference. In accordance with requirements of 1 CFR 51.5, EPA is finalizing the incorporation by reference of the VADEQ regulations regarding control of VOC emissions from offset lithographic printing and letterpress printing, industrial solvent cleaning operations, miscellaneous industrial adhesives, and miscellaneous metal and plastic parts coatings in the Northern Virginia Volatile Organic Compound Emissions Control Area as well as related definitions as described in section II of this rulemaking action. Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation.² EPA has made, and will continue to make, these materials generally available through http://www.regulations.gov and/or at the EPA Region III Office (please contact the person identified in the For Further Information Contact section of this preamble for more information).

² 62 FR 27968 (May 22, 1997).

VI. Statutory and Executive Order Reviews

A. General Requirements

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land as defined in 18 U.S.C. 1151 or in any other area where EPA or an Indian tribe has demonstrated that a tribe has jurisdiction. In those areas of Indian country, the rule does not have tribal implications and will not impose substantial direct costs on tribal governments or preempt tribal law as specified by Executive Order 13175 (65 FR 67249, November 9, 2000).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 20, 2016. Filing a petition for reconsideration by the Administrator of this final rule does not affect the finality of this action for the purposes of judicial review nor does it extend the time within which a petition for judicial review may be filed, and shall not postpone the effectiveness of such rule or action. This action approving RACT rules for sources in northern Virginia may not be challenged later in proceedings to enforce its requirements. (See section 307(b)(2)).

List of Subjects in 40 CFR Part 52

Environmental protection, Air pollution control, Incorporation by reference, Nitrogen dioxide, Ozone, Reporting and recordkeeping requirements, Volatile organic compounds.

Dated: September 29, 2016.
Shawn M. Garvin,
Regional Administrator, Region III.

40 CFR part 52 is amended as follows:

PART 52—APPROVAL AND PROMULGATION OF IMPLEMENTATION PLANS

1. The authority citation for part 52 continues to read as follows:

Authority: 42 U.S.C. 7401 et seq.

Subpart VV—Virginia

2. In § 52.2420:

a. In the table in paragraph (c):

i. Revise the entries “5-40-4760” and “5-40-7800”.

ii. Add the heading “Article 56, Emission Standards for Letterpress Printing Operations in the Northern Virginia Volatile Organic Compound Emissions Control Area, 8-hour Ozone Standard (Rule 4-56)” and the entries “5-40-8380”; “5-40-8382”; “5-40-8384”; “5-40-8386”; “5-40-8388”; “5-40-8396”; “5-40-8398”; “5-40-8400”; “5-40-8410”; “5-40-8412”; “5-40-8414”; and “5-40-8418”; the heading “Article 56.1 Emission Standards for Offset Lithographic Printing Operations in the Northern Virginia Volatile Organic Compound Emissions Control Area, 8-hour Ozone Standard (Rule 4-56.1)” and the entries “5-40-8420”; “5-40-8422”; “5-40-8424”; “5-40-8426”; “5-40-8428”; “5-40-8434”; “5-40-8436”; “5-40-8438”; “5-40-8440”; “5-40-8450”; “5-40-8460”; the heading “Article 57 Emission Standards for Industrial Solvent Cleaning Operations in the Northern Virginia Volatile Organic Compound Emissions Control Area, 8-hour Ozone Standard (Rule 4-57)” and the entries “5-40-8510”; “5-40-8520”; “5-40-8530”; “5-40-8540”; “5-40-8550”; “5-40-8580”; “5-40-8590”; “5-40-8600”; “5-40-8610”; “5-40-8620”; “5-40-8630”; “5-40-8650”; the heading “Article 58 Emission Standards for Miscellaneous Industrial Adhesive Application Processes in the Northern Virginia Volatile Organic Compound Emissions Control Area, 8-hour Ozone Standard (Rule 4-58)” and the entries “5-40-8660”; “5-40-8670”; “5-40-8680”; “5-40-8690”; “5-40-8700”; “5-40-8730”; “5-40-8740”; “5-40-8750”; “5-40-8760”; “5-40-8770”; “5-40-8780”; “5-40-8800”; the heading “Article 59 Emission Standards for Miscellaneous Metal Parts and Products Coating Application Systems in the Northern Virginia Volatile Organic Compound Emissions Control Area, 8-hour Ozone Standard (Rule 4-58)” and the entries “5-40-8810”; “5-40-8820”; “5-40-8830”; “5-40-8840”; “5-40-8850”; “5-40-8880”; “5-40-8890”; “5-40-8900”; “5-40-8910”; “5-40-8920”; “5-40-8930”; and “5-40-8950”.

b. In the table in paragraph (e), add the entry “Documents incorporated by reference”.

The additions and revisions read as follows:

§ 52.2420 Identification of plan.

* * * * *

(c) * * *

EPA-Approved Virginia Regulations and Statutes
State citation | Title/subject | State effective date | EPA approval date | Explanation [former SIP citation]
* * * * * * *
9 VAC 5, Chapter 40 Existing Stationary Sources [Part IV]
* * * * * * *
Part II Emission Standards
* * * * * * *
Article 34 Emission Standards for Miscellaneous Metal Parts and Products Coating Application Systems (Rule 4-34)
5-40-4760 | Applicability and Designation of Affected Facility | 02/01/16 | 10/21/16, [Insert Federal Register citation] | Amended to refer Northern VA VOC emission control area to Article 59.
* * * * * * *
Article 53 Emission Standards for Lithographic Printing Processes (Rule 4-53) [Formerly Article 45]
5-40-7800 | Applicability and Designation of Affected Facility | 02/01/16 | 10/21/16, [Insert Federal Register citation] | Amended to refer Northern VA VOC emission control area to Article 56.1.
* * * * * * *
Article 56, Emission Standards for Letterpress Printing Operations in the Northern Virginia Volatile Organic Compound Emissions Control Area, 8-hour Ozone Standard (Rule 4-56)
5-40-8380 | Applicability and Designation of Affected Facility | 02/01/16 | 10/21/16, [Insert Federal Register citation] | Added.
5-40-8382 | Definitions | 02/01/16 | 10/21/16, [Insert Federal Register citation] | Added.
5-40-8384 | Standard for volatile organic compounds | 02/01/16 | 10/21/16, [Insert Federal Register citation] | Added.
5-40-8386 | Standard for visible emissions | 02/01/16 | 10/21/16, [Insert Federal Register citation] | Added.
5-40-8388 | Standard for fugitive/dust emissions | 02/01/16 | 10/21/16, [Insert Federal Register citation] | Added.
5-40-8396 | Compliance | 02/01/16 | 10/21/16, [Insert Federal Register citation] | Added.
5-40-8398 | Compliance schedule | 02/01/16 | 10/21/16, [Insert Federal Register citation] | Added.
5-40-8400 | Test methods and procedures | 02/01/16 | 10/21/16, [Insert Federal Register citation] | Added.
5-40-8410 | Monitoring | 02/01/16 | 10/21/16, [Insert Federal Register citation] | Added.
5-40-8412 | Notification, records, and reporting | 02/01/16 | 10/21/16, [Insert Federal Register citation] | Added.
5-40-8414 | Registration | 02/01/16 | 10/21/16, [Insert Federal Register citation] | Added.
5-40-8418 | Permits | 02/01/16 | 10/21/16, [Insert Federal Register citation] | Added.
Article 56.1 Emission Standards for Offset Lithographic Printing Operations in the Northern Virginia Volatile Organic Compound Emissions Control Area, 8-hour Ozone Standard (Rule 4-56.1)
5-40-8420 | Applicability and Designation of Affected Facility | 02/01/16 | 10/21/16, [Insert Federal Register citation] | Added.
5-40-8422 | Definitions | 02/01/16 | 10/21/16, [Insert Federal Register citation] | Added.
5-40-8424 | Standard for volatile organic compounds | 02/01/16 | 10/21/16, [Insert Federal Register citation] | Added.
5-40-8426 | Standard for visible emissions | 02/01/16 | 10/21/16, [Insert Federal Register citation] | Added.
5-40-8428 | Standard for fugitive/dust emissions | 02/01/16 | 10/21/16, [Insert Federal Register citation] | Added.
5-40-8434 | Compliance | 02/01/16 | 10/21/16, [Insert Federal Register citation] | Added.
5-40-8436 | Compliance schedule | 02/01/16 | 10/21/16, [Insert Federal Register citation] | Added.
5-40-8438 | Test methods and procedures | 02/01/16 | 10/21/16, [Insert Federal Register citation] | Added.
5-40-8440 | Monitoring | 02/01/16 | 10/21/16, [Insert Federal Register citation] | Added.
5-40-8450 | Notification, records, and reporting | 02/01/16 | 10/21/16, [Insert Federal Register citation] | Added.
5-40-8460 | Registration | 02/01/16 | 10/21/16, [Insert Federal Register citation] | Added.
5-40-8480 | Permits | 02/01/16 | 10/21/16, [Insert Federal Register citation] | Added.
Article 57 Emission Standards for Industrial Solvent Cleaning Operations in the Northern Virginia Volatile Organic Compound Emissions Control Area, 8-hour Ozone Standard (Rule 4-57)
5-40-8510 | Applicability and Designation of Affected Facility | 02/01/16 | 10/21/16, [Insert Federal Register citation] | Added.
5-40-8520 | Definitions | 02/01/16 | 10/21/16, [Insert Federal Register citation] | Added.
5-40-8530 | Standard for volatile organic compounds | 02/01/16 | 10/21/16, [Insert Federal Register citation] | Added.
5-40-8540 | Standard for visible emissions | 02/01/16 | 10/21/16, [Insert Federal Register citation] | Added.
5-40-8550 | Standard for fugitive/dust emissions | 02/01/16 | 10/21/16, [Insert Federal Register citation] | Added.
5-40-8580 | Compliance | 02/01/16 | 10/21/16, [Insert Federal Register citation] | Added.
5-40-8590 | Compliance schedule | 02/01/16 | 10/21/16, [Insert Federal Register citation] | Added.
5-40-8600 | Test methods and procedures | 02/01/16 | 10/21/16, [Insert Federal Register citation] | Added.
5-40-8610 | Monitoring | 02/01/16 | 10/21/16, [Insert Federal Register citation] | Added.
5-40-8620 | Notification, records, and reporting | 02/01/16 | 10/21/16, [Insert Federal Register citation] | Added.
5-40-8630 | Registration | 02/01/16 | 10/21/16, [Insert Federal Register citation] | Added.
5-40-8650 | Permits | 02/01/16 | 10/21/16, [Insert Federal Register citation] | Added.
Article 58 Emission Standards for Miscellaneous Industrial Adhesive Application Processes in the Northern Virginia Volatile Organic Compound Emissions Control Area, 8-hour Ozone Standard (Rule 4-58)
5-40-8660 | Applicability and Designation of Affected Facility | 02/01/16 | 10/21/16, [Insert Federal Register citation] | Added.
5-40-8670 | Definitions | 02/01/16 | 10/21/16, [Insert Federal Register citation] | Added.
5-40-8680 | Standard for volatile organic compounds | 02/01/16 | 10/21/16, [Insert Federal Register citation] | Added.
5-40-8690 | Standard for visible emissions | 02/01/16 | 10/21/16, [Insert Federal Register citation] | Added.
5-40-8700 | Standard for fugitive/dust emissions | 02/01/16 | 10/21/16, [Insert Federal Register citation] | Added.
5-40-8730 | Compliance | 02/01/16 | 10/21/16, [Insert Federal Register citation] | Added.
5-40-8740 | Compliance schedule | 02/01/16 | 10/21/16, [Insert Federal Register citation] | Added.
5-40-8750 | Test methods and procedures | 02/01/16 | 10/21/16, [Insert Federal Register citation] | Added.
5-40-8760 | Monitoring | 02/01/16 | 10/21/16, [Insert Federal Register citation] | Added.
5-40-8770 | Notification, records, and reporting | 02/01/16 | 10/21/16, [Insert Federal Register citation] | Added.
5-40-8780 | Registration | 02/01/16 | 10/21/16, [Insert Federal Register citation] | Added.
5-40-8800 | Permits | 02/01/16 | 10/21/16, [Insert Federal Register citation] | Added.
Article 59 Emission Standards for Miscellaneous Metal Parts and Products Coating Application Systems in the Northern Virginia Volatile Organic Compound Emissions Control Area, 8-hour Ozone Standard (Rule 4-58)
5-40-8810 | Applicability and Designation of Affected Facility | 02/01/16 | 10/21/16, [Insert Federal Register citation] | Added.
5-40-8820 | Definitions | 02/01/16 | 10/21/16, [Insert Federal Register citation] | Added.
5-40-8830 | Standard for volatile organic compounds | 02/01/16 | 10/21/16, [Insert Federal Register citation] | Added.
5-40-8840 | Standard for visible emissions | 02/01/16 | 10/21/16, [Insert Federal Register citation] | Added.
5-40-8850 | Standard for fugitive/dust emissions | 02/01/16 | 10/21/16, [Insert Federal Register citation] | Added.
5-40-8880 | Compliance | 02/01/16 | 10/21/16, [Insert Federal Register citation] | Added.
5-40-8890 | Compliance schedule | 02/01/16 | 10/21/16, [Insert Federal Register citation] | Added.
5-40-8900 | Test methods and procedures | 02/01/16 | 10/21/16, [Insert Federal Register citation] | Added.
5-40-8910 | Monitoring | 02/01/16 | 10/21/16, [Insert Federal Register citation] | Added.
5-40-8920 | Notification, records, and reporting | 02/01/16 | 10/21/16, [Insert Federal Register citation] | Added.
5-40-8930 | Registration | 02/01/16 | 10/21/16, [Insert Federal Register citation] | Added.
5-40-8950 | Permits | 02/01/16 | 10/21/16, [Insert Federal Register citation] | Added.
* * * * * * *

* * * * *

(e) * * *

Name of nonregulatory SIP revision | Applicable geographic area | State submittal date | EPA approval date | Additional explanation
Documents incorporated by reference | Northern Virginia VOC emissions control area | 02/01/16 | 10/21/16, [Insert Federal Register citation] | Section 15 added

[FR Doc. 2016-25441 Filed 10-20-16; 8:45 am]

BILLING CODE 6560-50-P